DEPARTMENT OF THE INTERIOR

Bureau of Land Management

[A2407-014-004-065516; O2412-014-004-047181.1; LLUT925000]

Filing Plats of Survey; Utah

AGENCY: Bureau of Land Management, Interior.

ACTION: Notice of official filing.

SUMMARY: The plats of survey of the following described lands are scheduled to be officially filed in the Bureau of Land Management (BLM) Utah State Office, Salt Lake City, Utah. The surveys announced in this notice, which were executed at the request of the BLM and Bureau of Indian Affairs (BIA), are necessary for the management of these lands.

DATES: Protests must be received by the BLM Utah State Office prior to the scheduled date of official filing, April 2, 2026.

ADDRESSES: A copy of the survey records may be obtained from the Public Room at the BLM Utah State Office, 440 West 200 South, Suite 500, Salt Lake City, Utah 84101-1345, upon required payment. The plats may be viewed at this location at no cost.

FOR FURTHER INFORMATION CONTACT: Matthew J. Kurchinski, BLM Chief Cadastral Surveyor for Utah, by telephone at (801) 539-4139 or by email at mkurchin@blm.gov. Individuals in the United States who are deaf, deafblind, hard of hearing, or have a speech disability may dial 711 (TTY, TDD, or TeleBraille) to access telecommunication relay services. Individuals outside the United States should use the relay services offered within their country to make international calls to the point-of-contact in the United States.

SUPPLEMENTARY INFORMATION: The lands surveyed are represented on the plats of surveys described below:

Salt Lake Meridian, Utah

T. 42 S., R. 20 E., under Group No. 1483, prepared at the request of the BIA, accepted September 26, 2025.

T. 40 S., R. 23 E., under Group No. 1340, prepared at the request of the BLM, accepted September 26, 2025.

T. 41 S., R. 23 E., under Group No. 1480, prepared at the request of the BIA, accepted September 26, 2025.

A person or party who wishes to protest an official filing of a plat of survey identified above must file a written notice of protest with the BLM State Director for Utah, at the address listed in the ADDRESSES section of this notice.

The notice of protest must identify the specific plat(s) of survey the person or party wishes to protest. The notice of protest must be received in the BLM Utah State Office no later than the scheduled date of the proposed official filing of the plat(s) of survey being protested, see the DATES section earlier; if received after regular business hours, a notice of protest will be considered filed the next business day. Any notice of protest filed after the scheduled date of official filing will be untimely and will not be considered.

A written statement of reasons in support of the protest, if not filed with the notice of protest, must be filed with the BLM State Director for Utah within 30 days after the notice of protest is received.

If a notice of protest of the official filing of the plat(s) of survey is received prior to the scheduled date of official filing, the official filing of the plat(s) of survey identified in the notice of protest will be stayed pending consideration of the protest. Plat(s) of survey will not be officially filed until the next business day after all timely protests have been dismissed or otherwise resolved.

Before including your address, phone number, email address, or other personal identifying information in a notice of protest, you should be aware that the documents you submit, including your personal identifying information, may be made publicly available in their entirety at any time. While you can ask us to withhold your personal identifying information from public review, we cannot guarantee that we will be able to do so.

(Authority: 43 U.S.C. chapter 3.)

Matthew J. Kurchinski,
Chief Cadastral Surveyor for Utah.

[FR Doc. 2026-04200 Filed 3-2-26; 8:45 am]

BILLING CODE 4331-25-P